DEPARTMENT OF COMMERCE

International Trade Administration

A-357-812

Notice of Extension of Time Limit for Preliminary Results of Antidumping Duty New Shipper Review: Honey from Argentina

AGENCY: Import Administration, International Trade Administration, Department of Commerce.

EFFECTIVE DATE: July 12, 2006.

FOR FURTHER INFORMATION CONTACT: David Cordell or Robert James, AD/CVD Operations, Office 7, Import Administration, International Trade Administration, U.S. Department of Commerce, 14th Street and Constitution Avenue, NW, Washington, DC 20230; telephone: (202) 482-0408 or(202) 482-0469, respectively.

SUPPLEMENTARY INFORMATION:

Background

The Department of Commerce (the Department) published an antidumping duty order on honey from Argentina on December 10, 2001 (see Notice of Antidumping Duty Order; Honey From Argentina, 66 FR 63672). On January 3, 2006, Patagonik S.A., an Argentine exporter of subject merchandise, requested that the Department conduct a new shipper review. On January 20, 2006, the Department initiated this new shipper review. See Honey from Argentina: Initiation of New Shipper Antidumping Duty Review, 71 FR 4349 (January 26, 2006). The preliminary results of this administrative review are currently due no later than July 19, 2006.

Extension of Time Limit for Preliminary Results

Pursuant to section 751(a)(2)(B) of the Tariff Act of 1930 as amended (the Act), the Department shall issue preliminary results in a new shipper review of an antidumping duty order within 180 days after the date on which the new shipper review was initiated. The Act further provides, however, that the Department may extend the deadline for completion of the preliminary results of a new shipper review from 180 days to 300 days if it determines that the case is extraordinarily complicated. See section 751(a)(2)(B)(iv) of the Act. We determine that this new shipper review is extraordinarily complicated because of issues involving cost, third country sales, and the nature of the U.S. sale.

Section 751(a)(2)(B) of the Act and section 351.214(i)(2) of the Department's regulations allow the Department to extend the deadline for the preliminary results to a maximum of 300 days from the date on which the new shipper review was initiated. For the reasons noted above, we are extending the time for the completion of preliminary results until no later than November 16, 2006, which is 300 days from the date on which the new shipper review was initiated. The deadline for the final results of this administrative review continues to be 90 days after the publication of the preliminary results.

This notice is issued and published in accordance with section 751(a)(2)(B) of the Act.

Dated: June 30, 2006.
Stephen J. Claeys,
Deputy Assistant Secretary for Import Administration.

[FR Doc. E6-10875 Filed 7-11-06; 8:45 am]

BILLING CODE 3510-DS-S